DEPARTMENT OF COMMERCE

National Oceanic and Atmospheric Administration

[I.D. 060603E]

Intent to Analyze the Effects of the Subsistence Taking of Northern Fur Seals on the Pribilof Islands, Alaska

AGENCY: National Marine Fisheries Service (NMFS), National Oceanic and Atmospheric Administration (NOAA), Commerce.

ACTION: Notice of intent; scoping meetings; request for comments.

SUMMARY: NMFS intends to prepare an Environmental Impact Statement (EIS) regarding possible changes to the subsistence harvest of the Pribilof Islands stock of northern fur seals. The scope of the EIS will consist of a broad review of the subsistence harvest management on the Pribilof Islands including the manner in which the harvest is conducted. NMFS intends to hold scoping meetings to receive public input on the issues of concern and the appropriate range of management alternatives to be addressed in the EIS. In addition to holding the scoping meetings, NMFS solicits written comments related to the scope of the analysis.

DATES: Written comments will be accepted through September 16, 2003.

ADDRESSES: Written comments should be addressed to the Assistant Regional Administrator, Protected Resources Division, NMFS, P.O. Box 21668, Juneau, AK 99802, Attn: Lori Durall. Requests to be included on a mailing list of persons interested in the EIS should be sent to Mr. David Cormany at 222 West 7th Avenue, Box 43, Anchorage, AK 99513. Comments may also be hand-delivered to NMFS, Federal Building, 709 West 9th Street, Juneau, AK, or NMFS, Federal Building, Room 517, 222 West 7th Avenue, Anchorage, AK. NMFS is not accepting email or internet comments.

FOR FURTHER INFORMATION CONTACT: David Cormany, (907) 271-5006.

SUPPLEMENTARY INFORMATION: On July 9, 1985 (50 FR 27914), NMFS published an emergency interim rule to govern the subsistence taking of fur seals by Alaska Native (Aleut) residents of the Pribilof Islands. A final rule was subsequently published on July 9, 1986 (51 FR 24828). The subsistence harvest of northern fur seals on the Pribilof Islands is governed by regulations at 50 CFR 216 Subpart F—Pribilof Islands, Taking for Subsistence Purposes. These regulations were published under the authority of the Fur Seal Act (FSA), 16 U.S.C. 1151 et seq., and the Marine Mammal Protection Act (MMPA), 16 U.S.C. 1361 et seq. The purpose of these regulations was to provide for the subsistence needs of the Pribilof Aleuts using humane harvesting methods and to restrict taking by sex, age, and season for herd management purposes.

The Need for an EIS on this Action

An Environmental Assessment and a Finding of No Significant Impact of the harvest on the fur seal population have been considered adequate to address the Agency's NEPA compliance responsibilities in the past. However, evidence is building that continued management under the harvest regulations in combination with other past, present, and future actions, may be having a significant impact on the human environment. Therefore, preparation of an EIS for the proposed action may be required by NEPA and implementing regulations at 40 CFR 1501.4.

NMFS is required to publish a Notice of Intent (NOI) to, among other things, describe the proposed scoping process, including any scoping meetings to be held. The NOI also serves as the official notice that a Federal agency is commencing preparation of an EIS pursuant.

NMFS will examine all activities addressing the conduct of the subsistence harvest management. The cumulative effects section of the EIS will address the incremental cumulative effects of these management alternatives on northern fur seals when added to the effects of past, other present, or reasonably foreseeable future actions including the significant effects finding of the Steller Sea Lion Protection Measures EIS (NMFS 2001). The EIS for Steller sea lions examined the effects of management measures implemented in the groundfish fisheries in the Bering Sea and Aleutian Islands (BSAI) to protect endangered Steller sea lions in the area. In the analyses of the cumulative effects of the action on the environment, it was determined that commercial fishing and environmental changes (effects of a regime shift) may result in a conditionally significant adverse effect on northern fur seals. Therefore, while the subsistence harvest is not likely to have any direct or indirect effects on the fur seal population that would be considered significant under NEPA, the cumulative effects of the subsistence harvest alternatives when added to the effects of the groundfish fisheries on the harvest alternatives may result in a similar cumulative effects finding as identified in NMFS (2001).

Information and Comments Solicited

NMFS solicits comments and information to identify the complete range of alternatives to be analyzed. Alternatives analyzed in this EIS may include those identified below, plus additional alternatives identified through the public scoping process and through working with the Tribal Governments and other constituent groups. Potential alternatives that have already been identified include the following: (1) status quo alternative- No action will be taken to change existing regulations at 50 CFR 216 subpart F. The conduct and management of the harvest will remain as it has been; (2) an alternative that combines some of the existing regulations with agreed upon stipulations identified in the co-management agreements between NMFS and the Tribal Governments pursuant to section 119 of the MMPA; and (3) a harvest regime that is completely managed through co-management pursuant to section 119 of the MMPA.

NMFS has entered into co-management agreements with the Tribal Governments of St. Paul Island and St. George Island under section 119 of the MMPA in 2000 and 2001, respectively. These agreements are specific to the conservation and management of northern fur seals and Steller sea lions on the Pribilof Islands, with particular attention to the subsistence take and use of these animals. NMFS has worked with both communities to integrate the agreements into one management plan for the purpose of recovering and maintaining the fur seal population. Under this alternative all current regulations would be eliminated.

NMFS is also seeking information on the environmental, social and economic issues to be considered in the analysis. The direct and indirect effects sections of the EIS will present the impacts of each identified alternative on the human environment. Major issues are likely to include: the impact of subsistence and commercial fisheries removals on this stock, the impacts of regulated harvests on the subsistence needs, traditional and cultural values of Alaskan Natives, and co-management of the subsistence harvest under section 119 of the MMPA.

Public Involvement

Scoping is an open process for determining the scope of issues to be addressed and for identifying the significant issues related to the proposed action. A principle objective of this process is to identify a range of reasonable management alternatives that, with analysis, will provide a clear basis for distinguishing between the alternatives and selecting a preferred alternative.

Scoping meetings will be held on the Pribilof Islands, AK, and in Anchorage, AK. Dates have not been set at this time and will follow the cessation of the 2003 subsistence harvest. Times and locations of the scoping meetings will also be published in a subsequent notice.

Dated: June 11, 2003.
Donna Wieting,
Acting Director, Office of Protected Resources, National Marine Fisheries Service.

[FR Doc. 03-15407 Filed 6-17-03; 8:45 am]

BILLING CODE 3510-22-S